DEPARTMENT OF ENERGY

[Docket No. FE C&E 00-03, C&E 00-04 and C&E 00-04 Certification Notice—185]

Office of Fossil Energy; Notice of Filings of Coal Capability of Reliant Energy Desert Basin, LLC, Tenaska Alabama Partners, L.P. and Liberty Generating Company, LLC Powerplant and Industrial Fuel Use Act

AGENCY: Office of Fossil Energy, Department of Energy.

ACTION: Notice of filing.

SUMMARY: Reliant Energy Desert Basin, LLC (Reliant), Tenaska Alabama Partners, L.P. and Liberty Generating Company, LLC submitted coal capability self-certifications pursuant to section 201 of the Powerplant and Industrial Fuel Use Act of 1978, as amended.

ADDRESSES: Copies of self-certification filings are available for public inspection, upon request, in the Office of Coal & Power Im/Ex, Fossil Energy, Room 4G-039, FE-27, Forrestal Building, 1000 Independence Avenue, SW, Washington, DC 20585.

FOR FURTHER INFORMATION CONTACT: Ellen Russell at (202) 586-9624

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load powerplant, that such powerplant has the capability to use coal or another alternate fuel. Such certification establishes compliance with section 201(a) as of the date filed with the Department of Energy. The Secretary is required to publish a notice in the Federal Register that a certification has been filed. The following owners/operators of the proposed new baseload powerplants have filed a self-certification in accordance with section 201(d).

Owner: Reliant (C&E 00-03).

Operator: Reliant Energy Power Generation, Inc.

Location: Casa Grande, Pinal County, Arizona.

Plant Configuration: Combined-cycle.

Capacity: 551 MW.

Fuel: Natural gas.

Purchasing Entities: Reliant Energy Services, Inc. or one of its affiliates.

In-Service Date: September 2001.

Owner: Tenaska Alabama Partners, L.P. (C&E 00-04).

Operator: Tenaska Alabama Partners, L.P.

Location: Autagua County near the town of Billingsly, Alabama.

Plant Configuration: Combined-cycle.

Capacity: 846 MW.

Fuel: Natural gas.

Purchasing Entities: Williams Energy Marketing & Trade Company.

In-Service Date: May, 2002.

Owner: Liberty Generating Company, LLC (C&E 00-05).

Operator: Liberty Generating Company.

Location: Linden, New Jersey.

Plant Configuration: Combined-cycle.

Capacity: 1090 MW.

Fuel: Natural gas.

Purchasing Entities: Competitive wholesale power market.

In-Service Date: Second quarter of 2003.

Dated: Issued in Washington, DC, March 2000.
Anthony J. Como,
Deputy Director, Electric Power Regulation, Office of Coal & Power IM/Ex, Office of Coal & Power Systems, Office of Fossil Energy.

[FR Doc. 00-7184 Filed 3-22-00; 8:45 am]

BILLING CODE 6450-01-M